DEPARTMENT OF THE INTERIOR

Bureau of Land Management

[UTU76457, UTU76458, UTU76459, UTU76460, UTU76462, UTU76703, UTU76704, UTU77110 and UTU77500]

Notice of Proposed Reinstatement of Terminated Oil and Gas Leases, Utah

September 24, 2004.

AGENCY: Bureau of Land Management, Interior.

ACTION: Notice.

SUMMARY: In accordance with Title IV of the Federal Oil and Gas Royalty Management Act (Pub. L. 97-451), a petition for reinstatement of oil and gas leases UTU76457, UTU76458, UTU76459, UTU76460, UTU76462, UTU76703, UTU76704, UTU77110 and UTU77500 for lands in Juab County, Utah, was timely filed and required rentals accruing from the date of termination, have been paid.

FOR FURTHER INFORMATION CONTACT: Teresa Catlin, Acting Chief, Branch of Fluid Minerals at (801) 539-4122.

SUPPLEMENTARY INFORMATION: The lessee has agreed to new lease terms for rentals and royalties at rates of $10 per acre and 16⅔ percent, respectively. The $500 administrative fee for the lease has been paid and the lessee has reimbursed the Bureau of Land Management for the cost of publishing this notice.

Having met all the requirements for reinstatement of the lease as set out in Section 31(d) and (e) of the Mineral Leasing Act of 1920 (30 U.S.C. 188), the Bureau of Land Management is proposing to reinstate lease UTU77110, effective April 1, 2003, leases UTU76457, UTU76458, UTU76459, UTU76460 and UTU76462, effective July 1, 2003, leases UTU76703, UTU76704, and UTU77500, effective October 1, 2003, subject to the original terms and conditions of the leases and the increased rental and royalty rates cited above.

Teresa Catlin,
Acting Chief, Branch of Fluid Minerals.

[FR Doc. 04-24667 Filed 11-3-04; 8:45 am]

BILLING CODE 4310-$$-P